DEPARTMENT OF COMMERCE

International Trade Administration

[C-201-810]

Cut-to-Length Carbon Steel Plate From Mexico: Extension of Time Limits for Final Results of Expedited Sunset Review

AGENCY: Import Administration, International Trade Administration, Department of Commerce.

EFFECTIVE DATE: February 28, 2006.

FOR FURTHER INFORMATION CONTACT: Stephanie Moore or David Goldberger, AD/CVD Operations, Import Administration, International Trade Administration, U.S. Department of Commerce, 14th Street & Constitution Avenue, NW., Washington, DC 20230; telephone: (202) 482-3692 or (202) 482-4136, respectively.

SUPPLEMENTARY INFORMATION:

Extension of Time Limits:

On November 1, 2005, the Department of Commerce (“the Department”) initiated a sunset review of the countervailing duty (“CVD”) order on cut-to-length carbon steel plate (“CTL plate”) from Mexico, pursuant to section 751(c) of the Tariff Act of 1930, as amended (“the Act”). See Initiation of Five-Year (Sunset) Reviews, 70 FR 65884 (November 1, 2005). Based on an adequate response from the domestic interested parties and an inadequate response (in this case no response) from respondent interested parties, the Department is conducting an expedited sunset review to determine whether revocation of the CVD order on CTL plate from Mexico would lead to the continuation or recurrence of a countervailable subsidy. See section 19 CFR 351.218(e)(1)(ii)(C) of the Act.

In accordance with section 751(c)(5)(B) of the Act, the Department may extend the period of time for making its determination in a sunset review by not more than 90 days, if it determines that the review is extraordinarily complicated. As set forth in section 751(c)(5)(C)(v) of the Act, the Department may treat a sunset review as extraordinarily complicated if it is a review of a transition order. The sunset review subject to this notice is a review of a transition order. Therefore, the Department has determined, pursuant to section 751(c)(5)(C)(v) of the Act, that the sunset review of the CVD order on CTL plate from Mexico is extraordinarily complicated and requires additional time for the Department to complete its analysis. Accordingly, the Department will extend the deadline in this proceeding, and, as a result, intends to issue the final results of the expedited sunset review of the CVD order on CTL plate from Mexico on or about May 30, 2006, 90 days from the original scheduled date of the expedited final sunset review.

This notice is issued and published in accordance with sections 751(c)(5)(B) and (C) of the Act.

Dated: February 21, 2006.
Stephen J. Claeys,
Deputy Assistant Secretary for Import Administration.

[FR Doc. E6-2790 Filed 2-27-06; 8:45 am]

BILLING CODE 3510-DS-S